DEPARTMENT OF THE INTERIOR

Fish and Wildlife Service

Endangered Species Recovery Permits

AGENCY: Fish and Wildlife Service, Interior.

ACTION: Notice of availability and receipt of applications.

SUMMARY: We announce our receipt of applications to conduct certain activities pertaining to enhancement of survival of endangered species.

DATES: Written comments on these permit applications must be received by June 12, 2006.

ADDRESSES: Written data or comments should be submitted to the Assistant Regional Director—Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 20 days of the date of publication of this notice to Kris Olsen, by mail or by telephone at 303-236-4256. All comments received from individuals become part of the official public record.

SUPPLEMENTARY INFORMATION: The following applicants have requested issuance of enhancement of survival permits to conduct certain activities with endangered species pursuant to Section 10(a)(1)(A) of the Endangered Species Act of 1973, as amended (16 U.S.C. 1531 et seq.).

Applicant: Larval Fish Laboratory, Colorado State University, Fort Collins, Colorado, TE-046795. The applicant requests a renewed permit to take Colorado pikeminnow (Ptychocheilus lucius) and razorback sucker (Xyrauchen texanus) in conjunction with recovery activities throughout the species' range for the purpose of enhancing their survival and recovery.

Applicant: Jeff Hagener, Montana Department of Fish, Wildlife and Parks, Helena, Montana, TE-047250. The applicant requests a permit amendment to add surveys for Interior least tern (Sterna antillarum athalassos) and piping plover (Charadrius melodus) in conjunction with recovery activities throughout the species' range for the purpose of enhancing their survival and recovery.

Applicant: Bradley Preheim, Vermillion Basin Water Development District, Centerville, South Dakota, TE-124861. The applicant requests a permit to take Topeka shiner (Notropis topeka) in conjunction with recovery activities throughout the species' range for the purpose of enhancing its survival and recovery.

Applicant: Sam Stukel, South Dakota Game, Fish and Parks, Yankton, South Dakota, TE-124904. The applicant requests a permit to take pallid sturgeon (Scaphirhynchus albus) in conjunction with recovery activities throughout the species' range for the purpose of enhancing its survival and recovery.

Dated: April 18, 2006.
James J. Slack,
Deputy Regional Director, Denver, Colorado.

[FR Doc. E6-7106 Filed 5-10-06; 8:45 am]

BILLING CODE 4310-55-P